SMALL BUSINESS ADMINISTRATION

[Disaster Declaration #15675; Florida Disaster Number FL-00138 Declaration of Economic Injury]

Administrative Declaration Amendment of an Economic Injury Disaster for the State of Florida

AGENCY: U.S. Small Business Administration.

ACTION: Amendment 1.

SUMMARY: This is an amendment of an Economic Injury Disaster Loan (EIDL) declaration for the State of Florida, dated 09/04/2018.

Incident: Red Tide Algal Bloom.

Incident Period: 11/01/2017 and continuing.

DATES: Issued on 09/20/2018.

Economic Injury (EIDL) Loan Application Deadline Date: 06/04/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Economic Injury declaration for the State of FLORIDA dated 09/04/2018, is hereby amended to include the following areas as adversely affected by the disaster.

Primary Counties: Pinellas

Contiguous Counties:

Florida: Pasco

All other information in the original declaration remains unchanged.

(Catalog of Federal Domestic Assistance Number 59008)

Dated: September 20, 2018.
Linda E. McMahon,
Administrator.

[FR Doc. 2018-21113 Filed 9-27-18; 8:45 am]

BILLING CODE 8025-01-P